DEPARTMENT OF JUSTICE

Meeting of the Religious Liberty Commission

AGENCY: Office of the Associate Attorney General, United States Department of Justice (DOJ).

ACTION: Notice of Federal advisory committee meeting.

SUMMARY: The DOJ is publishing this notice to announce the second Federal advisory committee meeting of the Religious Liberty Commission (Commission).

DATES: Open to the public September 8, 2025, from 9:00 a.m. to 4:00 p.m.

ADDRESSES: The meeting will be held in the World Stage Theater, Museum of the Bible, 400 4th St. SW, Washington, DC 20024. The meeting will be recorded and broadcast at justice.gov/live.

FOR FURTHER INFORMATION CONTACT: Mary Margaret Bush, Religious Liberty Commission Designated Federal Officer, RLC@usdoj.gov., 202-297-3196. Mrs. Bush can also be contacted to request a reasonable accommodation to attend the meeting.

Registration Information: Registration is required for in-person attendance. In-person attendance is limited to the first 300 people who register. Members of the public may register on the Religious Liberty Commission website, https://www.justice.gov/religious-liberty-commission. Members of the public who attend in-person will be required to present identification and go through security screening.

We ask guests from the media to register through the Office of Public Affairs by September 5, 2025 at 5 p.m. Media should be prepared to go through security checks and present government-issued photo I.D. and valid media credentials.

SUPPLEMENTARY INFORMATION: The Religious Liberty Commission is a federal advisory committee established by the President through Executive Order 14291. The Commission is composed of a chair, a vice chair, 11 members appointed by the President, including representatives from the private sector, employers, educational institutions, religious communities and States, and three ex-officio members. The Commission advises the Domestic Policy Council and the White House Faith Office on religious liberty policies of the United States, and will produce a comprehensive report to the President on the foundations of religious liberty in America, the impact of religious liberty on American society, current threats to domestic religious liberty, strategies to preserve and enhance religious liberty protections for future generations, and programs to increase awareness of and celebrate America's peaceful religious pluralism.

Agenda: During its second meeting on September 8, 2025, the Commission will discuss religious liberty issues in public education from the perspectives of parents and students. The hearing will include panels with testimonies from parents as well as elementary, secondary, undergraduate, and graduate students. The hearing will also include testimonies from individuals with expertise in the areas of religious liberty and public education. The hearing's objective will be to understand the historic landscape of religious liberty in the public education setting, recognize present threats to religious liberty in public education, and identify opportunities to secure religious liberty in this context for the future.

Public Comment: Written comments may be sent by email to RLC@usdoj.gov or by mail to U.S. Department of Justice, Office of the Associate Attorney General, ATTN: Religious Liberty Commission, 950 Pennsylvania Avenue NW, Room 5706, Washington, DC 20530. The deadline for comments is September 1, 2025.

Notice of this meeting is given under the Federal Advisory Committee Act (5 U.S.C. 1001 et seq.).

Dated: July 28, 2025.
Mary Margaret Bush,
Designated Federal Officer, Religious Liberty Commission.

[FR Doc. 2025-14436 Filed 7-29-25; 8:45 am]

BILLING CODE 4410-21-P